FEDERAL COMMUNICATIONS COMMISSION

[Report No. 2680]

Petitions for Reconsideration of Action in Rulemaking Proceeding

October 29, 2004.

Petitions for Reconsideration have been filed in the Commission's Rulemaking proceedings listed in this Public Notice and published pursuant to 47 CFR 1.429(e). The full text of this document is available for viewing and copying in Room CY-B402, 445 12th Street, SW., Washington, DC, or may be purchased from the Commission's copy contractor, Best Copy and Printing, Inc. (BCPI) (1-800-378-3160). Oppositions to these petitions must be filed by December 6, 2004. See section 1.4(b)(1) of the Commission's rules (47 CFR 1.4(b)(1)). Replies to an opposition must be filed within 10 days after the time for filing oppositions have expired.

Subject: In the Matter of Schools and Libraries Universal Service Support Mechanism (CC Docket No. 02-6).

Number of Petitions Filed: 1.

Subject: In the Matter of Modification of Parts 2 and 15 of the Commission's Rules for unlicensed devices and equipment approval (ET Docket No. 03-201).

Number of Petitions Filed: 1.

Subject: In the Matter of Rules and Regulations Implementing the Controlling the Assault of Non-Solicited Pornography and Marketing Act of 2003 (CG Docket No. 04-53).

Number of Petitions Filed: 1.

Marlene H. Dortch,
Secretary.

[FR Doc. 04-25743 Filed 11-18-04; 8:45 am]

BILLING CODE 6712-01-M